DEPARTMENT OF HOMELAND SECURITY

Coast Guard

33 CFR Part 165

[Docket No. USCG-2022-0805]

Safety Zones in Reentry Sites; Jacksonville, Daytona, Cape Canaveral, Florida

AGENCY: Coast Guard, DHS.

ACTION: Notification of enforcement of regulation.

SUMMARY: The Coast Guard is activating three safety zones for the SpaceX Commercial Crew-4 mission, reentry vehicle splashdown, and recovery operations. These operations will occur in the U.S. Exclusive Economic Zone (EEZ). Our regulation for safety zones in reentry sites within the Seventh Coast Guard District identifies the regulated areas for this event. No U.S.-flagged vessel may enter the safety zones unless authorized by the Captain of the Port Jacksonville or a designated representative. Foreign-flagged vessels are encouraged to remain outside the safety zones.

DATES: The regulations in 33 CFR 165.T07-0289 will be enforced for the safety zones identified in the SUPPLEMENTARY INFORMATION section below for the dates and times specified.

FOR FURTHER INFORMATION CONTACT: If you have questions on this rule, call or email MST2 Shawn Keeman, Waterways Management Division, U.S. Coast Guard; telephone 904-714-7661, email Shawn.R.Keeman@uscg.mil.

SUPPLEMENTARY INFORMATION: With this document, the Coast Guard Captain of the Port (COTP) Jacksonville is activating three safety zones as listed in 33 CFR 165.T07-0289(a)(1) through (3), on October 13, 2022, through October 17, 2022, for the SpaceX Commercial Crew-4 mission (Crew-4), reentry vehicle splashdown, and the associated recovery operations in the U.S. EEZ. These three safety zones are located within the COTP Jacksonville Area of Responsibility (AOR) offshore of Jacksonville, Daytona, and Cape Canaveral, Florida. The COTP Jacksonville is activating these safety zones in order to protect vessels and waterway users from the potential hazards created by reentry vehicle splashdowns and recovery operations. In accordance with the general regulations in 33 CFR part 165, subpart C, no U.S.-flagged vessel may enter the safety zones unless authorized by the COTP Jacksonville or a designated representative except as provided in § 165.T07-0289(d)(3). All foreign-flagged vessels are encouraged to remain outside the safety zones.

There are two other safety zones listed in § 165.T07-0289(a)(4) through (5), which are located within the COTP St. Petersburg AOR, that are being simultaneously activated through a separate notification of enforcement of the regulation document issued under Docket Number USCG-2022-0807.¹

¹ This notification of enforcement of the regulation can be found at: https://regulations.gov by searching for docket number USCG-2022-0807.

Twenty-four hours prior to the Crew-4 recovery operations scheduled on October 13, 2022, the COTP Jacksonville or COTP St. Petersburg, or designated representative will inform the public whether any of the five safety zones described in § 165.T07-0289(a) will remain activated (subject to enforcement). If one of the safety zones described in § 165.T07-0289(a) remains activated, it will be enforced for four hours prior to the Crew-4 splashdown and remain activated until announced by Broadcast Notice to Mariners on VHF-FM channel 16, and/or Marine Safety Information Bulletin (as appropriate) that the safety zone is no longer subject to enforcement. After the Crew-4 reentry vehicle splashdown, the COTP or a designated representative will grant general permission to come no closer than 3 nautical miles of any reentry vehicle or space support vessel engaged in the recovery operations, within the activated safety zone described in § 165.T07-0289(a). Once the reentry vehicle, and any personnel involved in reentry service, are removed from the water and secured onboard a space support vessel, the COTP or designated representative will issue a Broadcast Notice to Mariners on VHF-FM channel 16 announcing the activated safety zone is no longer subject to enforcement. The recovery operations are expected to last approximately one hour.

The Coast Guard may be assisted by other Federal, State, or local law enforcement agencies in enforcing this regulation.

Dated: October 7, 2022.
Janet D. Espino-Young,
Captain, U.S. Coast Guard, Captain of the Port Jacksonville.

[FR Doc. 2022-22279 Filed 10-12-22; 8:45 am]

BILLING CODE 9110-04-P